DEPARTMENT OF HEALTH AND HUMAN SERVICES

National Institutes of Health

Notice of Intent To Prepare an Environmental Impact Statement

SUMMARY: In accordance with the National Environmental Policy Act, 42 U.S.C. 4321-4347, the NIH is issuing this notice to advise the public that an environmental impact statement will be prepared for the Rocky Mountain Laboratories Campus Master Plan, Hamilton, Ravalli County, Montana.

FOR FURTHER INFORMATION CONTACT: Valerie Nottingham, Chief, Environmental Quality Branch, Division of Environmental Protection, Office of Research Facilities, NIH, B13/2W64, 9000 Rockville Pike, Bethesda, Maryland 20892, telephone 301-496-7775; fax 301-480-8056; or e-mail nihnepa@mail.nih.gov.

SUPPLEMENTARY INFORMATION: Rocky Mountain Laboratories (RML) is located on 33 acres in the City of Hamilton, a small community in southwestern Montana. The laboratory is a component of the National Institute of Allergy and Infectious Diseases (NIAID), which is one of the 27 Institutes or Centers that comprise the NIH, one of the world's largest biomedical research facilities and the Federal government's focal point for medical and behavioral research. RML conducts and supports research of infectious diseases and the human immune system, with an emphasis on vector-borne transmission of infectious diseases and prion diseases. RML's mission also includes biomedical research into diseases caused by the intentional release of biological agents into civilian populations, as well as advancing basic knowledge about biological agents. Total building space on the campus amounts to approximately 207,000 gsf. Approximately 260 people work at the RML site.

A Master Plan is an integrated series of documents that present in graphic, narrative, and tabular form the current composition of NIH campuses and the plan for their orderly and comprehensive development over a 20-year period. The plan provides guidance in coordinating the physical development of NIH campuses, including building locations, utility capacities, road alignments, parking facilities, and the treatment of open spaces. General design guidelines are also used to provide detailed guidance for the placement and design of physical improvements.

The proposed action is to develop a long-range physical master plan for RML. The plan will cover a 20-year planning period and address the future development of the RML site, including placement of future construction; vehicular and pedestrian circulation on- and off-campus; parking within the property boundaries; open space in and around the campus; required setbacks; historic properties; natural and scenic resources; noise; and lighting. The plan will examine potential growth in RML personnel, possible land acquisitions, and consequent construction of space over the planning period. Future construction on the site could include such facilities as new animal holding, research laboratories, and support facilities.

In accordance with 40 CFR parts 1500-1508 and DHHS environmental procedures, NIH will prepare an Environmental Impact Statement (EIS) for the proposed master plan. The EIS will evaluate the impacts of the master plan should development occur as proposed. Among the items the EIS will examine are the implications of the master plan on community infrastructure, including, but not limited to, utilities, storm water management, traffic and transportation, and other public services. To ensure that the public is afforded the greatest opportunity to participate in the planning and environmental review process, NIH in inviting oral and written comments on the master plan and related environmental issues.

The NIH will be sponsoring a public Scoping Meeting to provide individuals an opportunity to share their ideas on the master planning effort, including recommended alternatives and environmental issues the EIS should consider. The meeting is planned for 7 p.m. on March 23, 2006 at the Hamilton High School commons in Hamilton, Montana. All interested parties are encouraged to attend. NIH has established a 45-day public comment period for the scoping process. Scoping comments must be postmarked no later than April 18, 2006 to ensure they are considered. All comments and questions on the EIS should be directed to Valerie Nottingham at the address listed above, telephone 301-496-7775; fax 301-480-8056; or e-mail nihnepa@mail.nih.gov.

Dated: February 24, 2006.
Juanita Holler-Mildenberg,
FAIA, Acting Director, Office of Research Facilities Development and Operations, National Institutes of Health.

[FR Doc. 06-2015 Filed 3-2-06; 8:45 am]

BILLING CODE 4140-01-M